DEPARTMENT OF ENERGY

Federal Energy Regulatory Commission

[Docket No. ER02-2397-001]

Great Lakes Hydro America, LLC; Notice of Filing

September 24, 2002.

Take notice that on September 17, 2002, Great Lakes Hydro America, LLC (GLHA) tendered for filing with the Federal Energy Regulatory Commission (Commission) a Notice of Succession pursuant to Sections 35.16 and 131.51 of the Commission's Regulations, 18 CFR 35.16 and 131.51. The tariff sheets filed by GNE, LLC (GNE) in Docket No. ER02-159 are cancelled and are replaced by GLHA's tariff which contain the same substantive terms and conditions as the GNE tariff sheets.

Any person desiring to intervene or to protest this filing should file with the Federal Energy Regulatory Commission, 888 First Street, NE, Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's Web site under the “e-Filing” link. The Commission strongly encourages electronic filings.

Comment Date: October 8, 2002.

Linwood A. Watson, Jr.,
Deputy Secretary.

[FR Doc. 02-25137 Filed 10-2-02; 8:45 am]

BILLING CODE 6717-01-P